DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before July 8, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on June 2, 2022.
Donald P. Burger,
Chief, General Approvals and Permits Branch.

Special Permits Data
Application No. | Applicant | Regulation(s) affected | Nature of the Special Permits thereof
Granted
8757-M | Milton Roy, LLC | 173.201(c), 173.202(c), 173.203(c), 173.302a(a)(1), 173.304a(a)(1), 180.205 | To modify the special permit by updating the drawing revision numbers.
13220-M | Entegris, Inc | 173.302, 173.302c, 180.205(d) | To modify the special permit to authorize disposal of cylinders.
21125-M | CTS Cylinder Sales LLC | 180.209(a), 180.209(b)(1) | To modify the special permit to authorize FBH flaw size for cylinders over 6” in diameter to be larger and commensurate with the size of the cylinder.
21297-N | Luxfer Canada Limited | 178.75(d)(3), 180.205(g)(1) | To authorize the manufacture, marking, sale and use of UN/ISO composite cylinders per CFR 178.71, and specification ISO 11119-2 for use in MEGCs in accordance with CFR 178.75.
21320-N | Amazon.com, Inc | 173.220(d), 173.156(a), 173.159a(c), 173.185(c) | To authorize the transportation in commerce of small lithium batteries, non-spillable batteries, and battery powered vehicles in alternative packaging (shrink-wrapped overpacks).
21330-N | Polysource LLC | 176.907(a), 176.907(b), 176.907(c)(1) | To authorize the transportation in commerce of polymeric beads in alternative packaging.
21346-N | Porsche Motorsport | 172.101(j), 173.185(a)(1) | To authorize the transportation in commerce of prototype lithium batteries which exceed the allowable weight limit (35 kg) and vehicles containing those batteries aboard cargo-only aircraft.
21349-N | Veolia Es Technical Solutions LLC | 173.301(f)(1) | To authorize the one-time, one-way transportation in commerce of DOT 39 cylinders that are not equipped with pressure relief devices for the purpose disposal.
21357-N | Gateway Pyrotechnic Productions, LLC | 173.56 | To authorize the transportation in commerce of unapproved explosives seized by Customs and Border Patrol in the Port of Oakland California.
21362-N | Environmental Protection Agency | 173.185(f) | To authorize the transportation in commerce of damaged/defective waste lithium batteries and cells for disposal or recycling.
21363-N | Environmental Protection Agency | 172.102(c)(1), 173.185(f)(1), 173.185(f)(3) | To authorize the transportation in commerce of damaged/defective waste lithium cells or batteries from the Morris Lithium Battery Site for disposal or recycling.
21370-N | Australian Federal Police | 172.200, 172.300, 172.400, 175.75(b) | To authorize the transportation in commerce of a Division 6.1 hazardous material in the cabin of a passenger-carrying aircraft.
Denied
21356-N | Rawhide Leasing Company LLC |  | To authorize the requalification of 3A, 3AA, 3AX, 3AAx and 3T cylinders by proof pressure testing in accordance with CGA Pamphlet C-1 in lieu of hydrostatic or direct expansion testing.

[FR Doc. 2022-12305 Filed 6-7-22; 8:45 am]

BILLING CODE 4909-60-P